NATIONAL AERONAUTICS AND SPACE ADMINISTRATION

[Notice 05-061]

NASA Exploration Transportation System Strategic Roadmap Committee; Meeting

AGENCY: National Aeronautics and Space Administration (NASA).

ACTION: Notice of meeting.

SUMMARY: In accordance with the Federal Advisory Committee Act, Public Law 92-463, as amended, the National Aeronautics and Space Administration announces a forthcoming meeting of the NASA Exploration Transportation System Strategic Roadmap Committee.

DATES: Monday, April 18, 2005, 8 a.m. to 6 p.m.; and Tuesday, April 19, 2005, 8 a.m. to 5 p.m.

ADDRESSES: Hilton Crystal City Hotel, 2399, Jefferson Davis Highway, Arlington, VA 22202.

FOR FURTHER INFORMATION CONTACT: Dr. Dana Gould, MS 149, National Aeronautics and Space Administration Langley Research Center, Hampton, VA 23681-2199 (757) 864-7747.

SUPPLEMENTARY INFORMATION: The meeting will be open to the public up to the capacity of the room. Visitors to the meeting will be requested to sign a visitor's register.

The agenda for the meeting includes the following topics:

—Summary of Relevant Strategic Roadmaps.

—Summary of Relevant Capability Roadmaps.

—Overview of Roadmap Integration.

—Transportation Roadmap Update and Deliberations.

It is imperative that the meeting be held on this date to accommodate the scheduling priorities of the key participants.

Dated: March 18, 2005.
P. Diane Rausch,
Advisory Committee Management Officer, National Aeronautics and Space Administration.

[FR Doc. 05-5832 Filed 3-23-05; 8:45 am]

BILLING CODE 7510-13-P